EXPORT-IMPORT BANK OF THE U.S.

[Public Notice 89]

Agency Information Collection Activities: Proposed Collection; Comment Request

AGENCY: Export-Import Bank of the U.S.

ACTION: Notice and request for comments.

SUMMARY: The Export-Import Bank, as a part of its continuing effort to reduce paperwork and respondent burden, invites the general public and other Federal Agencies to comment on the proposed information collection, as acquired by the Paperwork Reduction Act of 1995. Our customers will be able to submit this from electronically. The proposed forms may be viewed on our Web site at http://www.exim.gov/pub/ins/pdf/eib92-31_prop.pdf, http://www.exim.gov/pub/ins/pdf/eib92-32_prop.pdf, http://www.exim.gov/pub/ins/pdf/eib92-53_prop.pdf, and http://www.exim.gov/pub/ins/pdf/eib99-17_prop.pdf.

DATES: Written comments should be received on or before August 21, 2006, to be assured of consideration.

ADDRESSES: Direct all comments and requests for additional information to Jean A. Fitzgibbon, Export-Import Bank of the U.S., 811 Vermont Avenue, NW., Washington, DC 20571, (800) 565-3946, extension 3620. For copies of the proposed forms, please direct your request to Solomon Bush, Export-Import Bank of the U.S., 811 Vermont Avenue, NW., Washington, DC 20571, (800) 565-3946, extension 3353.

SUPPLEMENTARY INFORMATION: Titles and Form Numbers:

EIB 92-31 Notification by Insured of Amounts Payable Under Multi-Buyer Export Credit Insurance Policy;

EIB 92-32 Notification by Insured of Amounts Payable Under Single-Buyer Export Credit Insurance Policy;

EIB 92-53 Small Business Multi-Buyer Export Credit Insurance Policy (ENB/ENV) Enhanced Assignment Of Policy Proceeds;

EIB 99-17 Single Buyer Export Credit Insurance Policy (ESS/ESSP) Enhanced Assignment of Policy Proceeds.

OMB Numbers: None.

Type of Review: Regular.

Need and Use: The information requested allows for the assignment of the proceeds of an insurance policy to a financial institution.

Affected Public: The form affects entities involved in the export of U.S. goods and services.

Estimated Annual Respondents: 500.

Estimated Time Per Respondent: 10 minutes.

Estimated Annual Burden: 83 hours.

Frequency of Reporting or Use: Annually for an enhanced assignment and once for the life of a policy for the standard assignment.

Dated: June 15, 2006.
Solomon Bush,
Agency Clearance Officer.

[FR Doc. 06-5539 Filed 6-20-06; 8:45 am]

BILLING CODE 6690-01-M